DEPARTMENT OF HEALTH AND HUMAN SERVICES

Health Resources and Services Administration

Agency Information Collection Activities: Submission to OMB for Review and Approval: Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than June 23, 2014.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: When submitting comments or requesting information, please include the information request collection title for reference.

Information Collection Request Title: Delta States Rural Development Network Grant Program Performance Improvement Measurement System Measures OMB No. 0915-xxxx—New

Abstract: The Delta States Rural Development Network Grant Program supports projects that demonstrate evidence based and/or promising approaches around cardiovascular disease, diabetes, or obesity in order to improve health status in rural communities throughout the Delta Region. Key features of programs are collaboration, adoption of an evidence-based approach, demonstration of health outcomes, program replicability, and sustainability.

Need and Proposed Use of the Information: For this program, performance measures were drafted to provide data useful to the program and to enable HRSA to provide aggregate program data required by Congress under the Government Performance and Results Act (GPRA) of 1993 (Public Law 103-62). These measures cover the principal topic areas of interest to the Office of Rural Health Policy, including: (a) access to care; (b) the underinsured and uninsured; (c) workforce recruitment and retention; (d) sustainability; (e) health information technology; (f) network development; and (g) health related clinical measures. Several measures will be used for this program. These measures will speak to the Office's progress toward meeting set goals. Summary of Prior Comments and Agency Response: A 60-day Federal Register Notice was published in the Federal Register on February 11, 2014 (79 FR 8196). There were no comments.

Likely Respondents: Delta States Rural Development Network Grant Program award recipients.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Delta States Rural Development Network Program Performance Measures | 12 | 1 | 12 | 6 | 72
Total | 12 | 1 | 12 | 6 | 72

Dated: May 19, 2014.
Bahar Niakan,
Director, Division of Policy and Information Coordination.

[FR Doc. 2014-12042 Filed 5-22-14; 8:45 am]

BILLING CODE 4165-15-P